ENVIRONMENTAL PROTECTION AGENCY

40 CFR Part 80

[EPA-HQ-OAR-2021-0427; FRL-8514-03-OAR]

RIN 2060-AV14

Renewable Fuel Standard (RFS) Program: Standards for 2023-2025 and Other Changes; Correction

AGENCY: Environmental Protection Agency (EPA).

ACTION: Final rule; correction.

SUMMARY: The Environmental Protection Agency (EPA) is correcting a final rule that appeared in the Federal Register on July 12, 2023. The final rule determined the applicable volume requirements and percentage standards for the Renewable Fuel Standard (RFS) for 2023 through 2025 for cellulosic biofuel, biomass-based diesel, advanced biofuel, and total renewable fuel, established the second supplemental standard addressing the judicial remand of the 2016 standard-setting rulemaking, and made several regulatory changes to the RFS program. This document corrects several amendatory instructions in the regulatory text in the final rule, but does not make any substantive changes.

DATES: This correction is effective on September 11, 2023.

ADDRESSES: EPA has established a docket for this action under Docket ID No. EPA-HQ-OAR-2021-0427. All documents in the docket are listed on the https://www.regulations.gov website. Although listed in the index, some information is not publicly available, e.g., confidential business information (CBI) or other information whose disclosure is restricted by statute. Certain other material is not available on the internet and will be publicly available only in hard copy form. Publicly available docket materials are available electronically through https://www.regulations.gov.

FOR FURTHER INFORMATION CONTACT: Nick Parsons, Office of Transportation and Air Quality, Assessment and Standards Division, Environmental Protection Agency, 2000 Traverwood Drive, Ann Arbor, MI 48105; telephone number: 734-214-4479; email address: RFS-Rulemakings@epa.gov.

SUPPLEMENTARY INFORMATION:

EPA is making several corrections for inadvertent errors in the amendatory instructions and regulatory text for the final rule:

• 40 CFR 80.140(a)(8) should be 40 CFR 80.140(a)(7).

• Instruction 17.l removes and replaces the text “Table 1 to this section, or a D code as approved by the Administrator, which”, but should remove and replace the text “Table 1 to this section, or D codes as approved by the Administrator, which”.

• Instruction 17.x amends 40 CFR 80.1426(f)(5)(v), but should amend 40 CFR 80.1426(f)(4)(ii).

• Instruction 20.d redesignates 40 CFR 80.1429(b)(5), but should also redesignate 40 CFR 80.1429(b)(5)(i) and (ii).

• Instruction 27.a removes and replaces the text “the Administrator” in 40 CFR 80.1443(a), (b), and (e), but should also remove and replace the text “The Administrator”.

• Instruction 29.b amends 40 CFR 80.1450(b)(1)(ii), but should more specifically amend 40 CFR 80.1450(b)(1)(ii) introductory text.

• Instruction 29.q removes and replaces the text “The Administrator” in 40 CFR 80.1450(g)(11)(i), (ii), (iii), and (i)(1), but should also remove and replace the text “the Administrator”.

• Instruction 33.c removes and replaces the text “§ 80.1401” in 40 CFR 80.1453(d) and (f)(1)(vi), but should also remove and replace the text “40 CFR 80.1401”.

• Instruction 34.i removes 40 CFR 80.1454(d) introductory text, but should instead revise 40 CFR 80.1454(d) introductory text.

Section 553(b)(B) of the Administrative Procedure Act, 5 U.S.C. 553(b)(B), provides that, when an agency for good cause finds that public notice and comment procedures are impracticable, unnecessary, or contrary to the public interest, the agency may issue a rule without providing notice and an opportunity for public comment. EPA has determined that there is good cause for making this technical correction final without prior proposal and opportunity for comment because such notice and opportunity for comment is unnecessary as the technical correction is for minor typographical, non-substantive errors only.

Correction

PART 80 [Corrected]

In FR Doc. 2023-13462 appearing at 88 FR 44468 in the Federal Register of Wednesday, July 12, 2023, the following corrections are made:

§ 80.140 [Corrected]

1. On page 44571, in the second column, in § 80.140, in paragraph (a), “(8) Volume standardization.” is corrected to read: “(7) Volume standardization.”.

§ 80.1426 [Corrected]

2. On page 44582, in the second column, amendatory instruction 17.l is corrected to read: “l. In paragraph (f)(3)(i), removing the text “Table 1 to this section, or D codes as approved by the Administrator, which” and adding in its place the text “the approved pathways that”;”.

3. On page 44582, in the second column, amendatory instruction 17.x is corrected to read: “x. In paragraph (f)(4)(ii), removing the text “Table 1 to this section, or a D code as approved by the Administrator, which” and adding in its place the text “the approved pathway that”;”.

§ 80.1429 [Corrected]

4. On page 44585, in the first column, amendatory instruction 20.d is corrected to read: “d. Redesignating paragraphs (b)(5) introductory text, (b)(5)(i), and (b)(5)(ii) as paragraphs (b)(5)(i), (b)(5)(i)(A), and (b)(5)(i)(B), respectively;”.

§ 80.1443 [Corrected]

5. On page 44586, in the second column, amendatory instruction 27.a is corrected to read: “a. In paragraph (a), removing the text “the Administrator” and adding in its place the text “EPA”; in paragraph (b), removing the text “The Administrator” and adding in its place the text “EPA”; and in paragraph (e) introductory text, removing the text “the Administrator” and adding in its place the text “EPA”; and”.

§ 80.1450 [Corrected]

6. On page 44586, in the second column, amendatory instruction 29.b is corrected to read: “b. Revising paragraphs (b)(1) introductory text and (b)(1)(ii) introductory text;”.

7. On page 44586, in the second column, amendatory instruction 29.q is corrected to read: “q. In paragraph (g)(11)(i), removing the text “The Administrator may issue a notice of intent to revoke the registration of a third-party auditor if the Administrator” and adding in its place the text “EPA may issue a notice of intent to revoke the registration of a third-party auditor if EPA”; in paragraph (g)(11)(ii), removing the text “The Administrator” and adding in its place the text “EPA”; and in paragraphs (g)(11)(iii) and (i)(1), removing the text “the Administrator” and adding in its place the text “EPA”.”

§ 80.1453 [Corrected]

8. On page 44589, in the second column, amendatory instruction 33.c is corrected to read: “c. In paragraph (d), removing the text “§ 80.1401” and adding in its place the text “§ 80.2”; and in paragraph (f)(1)(vi), removing the text “40 CFR 80.1401” and adding in its place the text “§ 80.2”;”

§ 80.1454 [Corrected]

9. On page 44589, in the third column, amendatory instruction 34.i is corrected to read: “i. Revising paragraph (d) introductory text;”.

Joseph Goffman,
Principal Deputy Assistant Administrator, Office of Air and Radiation.

[FR Doc. 2023-16541 Filed 8-2-23; 8:45 am]

BILLING CODE 6560-50-P